DEPARTMENT OF HEALTH AND HUMAN SERVICES

Food and Drug Administration

21 CFR Part 176

Indirect Food Additives: Paper and Paperboard Components

CFR Correction

In Title 21 of the Code of Federal Regulations, Parts 170 to 199, revised as of April 1, 2004, on page 207, in § 176.170, alphabetically add the following entry to the table in paragraph (b)(2):

§ 176.170 Components of paper and paperboard in contact with aqueous and fatty foods.

* * * * *

(b) * * *

(2) * * *

List of substances | Limitations
* * * * * * *
Butanedioic acid, sulfo-1,4-di-(C9-C11 alkyl) ester, ammonium salt (also known as butanedioic acid, sulfo-1,4-diisodecyl ester, ammonium salt [CAS Reg. No. 144093-88-9]). | For use as a surface active agent in package coating inks at levels not to exceed 3 percent by weight of the coating ink.
* * * * * * *

* * * * *

In the same Title, revised as of the same date, on page 218, in § 176.180, alphabetically add the following entry to the table in paragraph (b)(2):

§ 176.180 Components of paper and paperboard in contact with dry food.

* * * * *

(b) * * *

(2) * * *

List of substances | Limitations
* * * * * * *
Butanedioic acid, sulfo-1,4-di-(C9-C11 alkyl) ester, ammonium salt (also known as butanedioic acid, sulfo-1,4-diisodecyl ester, ammonium salt [CAS Reg. No. 144093-88-9]). | For use as a surface active agent in package coating inks at levels not to exceed 3 percent by weight of the coating ink.
* * * * * * *

* * * * *

[FR Doc. 04-55521 Filed 12-28-04; 8:45 am]

BILLING CODE 1505-01-D